DEPARTMENT OF COMMERCE

National Oceanic and Atmospheric Administration

[RTID 0648-XA952]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Scientific and Statistical Committee's (SSC) Socio-Economic Panel.

DATES: The meeting will be held via webinar on April 13, 2021, from 9 a.m. until 5 p.m.

ADDRESSES:

Meeting address: The meeting will be held via webinar. The webinar is open to members of the public. Registration is required. Webinar registration, an online public comment form, and briefing book materials will be available two weeks prior to the meeting at: http://safmc.net/safmc-meetings/current-advisory-panel-meetings/.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Socio-Economic Panel (SEP) will meet via webinar. The SEP will discuss the Council's draft Allocation Decision Tree Blueprint, which looks at incorporating biological, economic, and social information into allocation decision making, and using fishery performance reports to evaluate the efficacy of current fishery management techniques. The SEP will also review the research approach and results of the recently held Dolphin Wahoo Participatory Workshops. SEP members also will receive updates on recent Council amendments, the Council's Citizen Science Program, and a social census of Georgia's working waterfronts. The SEP will provide recommendations for SSC and Council consideration as appropriate.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: March 24, 2021.
Tracey L. Thompson,
Acting Deputy Director, Office of Sustainable Fisheries, National Marine Fisheries Service.

[FR Doc. 2021-06443 Filed 3-26-21; 8:45 am]

BILLING CODE 3510-22-P